DEPARTMENT OF HEALTH AND HUMAN SERVICES

Food and Drug Administration

[Docket No. FDA-2022-D-0362]

Blood Pressure and Pulse Donor Eligibility Requirements: Compliance Policy; Draft Guidance for Industry; Correction

AGENCY: Food and Drug Administration, HHS.

ACTION: Notice of availability; correction.

SUMMARY: The Food and Drug Administration (FDA or Agency) is correcting a notice that appeared in the Federal Register of Tuesday, May 24, 2022. The document announced the availability of a draft guidance entitled “Blood Pressure and Pulse Donor Eligibility Requirements: Compliance Policy; Draft Guidance for Industry.” The draft guidance document was published with incorrect information of a comment period due date. This document corrects that error.

FOR FURTHER INFORMATION CONTACT: Myrna Hanna, Center for Biologics Evaluation and Research, Food and Drug Administration, 10903 New Hampshire Ave., Bldg. 71, Rm. 7301, Silver Spring, MD 20993-0002, 240-402-7911.

SUPPLEMENTARY INFORMATION: In the Federal Register of May 24, 2022 (87 FR 31567), in FR Doc. 2022-11118, on page 31567, the following correction is made:

1. On page 3156, in the first column, the DATES caption is corrected to read:

DATES: Submit either electronic or written comments on the draft guidance by July 25, 2022, to ensure that the Agency considers your comment on this draft guidance before it begins work on the final version of the guidance.

Dated: June 3, 2022.
Lauren K. Roth,
Associate Commissioner for Policy.

[FR Doc. 2022-12619 Filed 6-10-22; 8:45 am]

BILLING CODE 4164-01-P